DEPARTMENT OF THE INTERIOR

Bureau of Land Management

[OR-030-00-1220-XX: GPO-0080]

Notice of Meeting of the Oregon Trail Interpretive Center Advisory Board

AGENCY: National Historic Oregon Trail Interpretive Center, Vale District, Bureau of Land Management, Interior.

ACTION: Notice of meeting.

SUMMARY: Notice is given that a meeting of the Advisory Board for the National Historic Oregon Trail Interpretive Center will be held on Thursday, January 20, 2000 from 8:00 a.m. to 10:00 a.m. at the National Historic Oregon Trail Interpretive Center, Baker City, Oregon. Public comments will be received from 9:45 a.m. to 10:00 a.m., January 20, 2000. The topics to be discussed are the Board's recommendations on the Vegetation Management Environmental Assessment for the National Historic Oregon Trail Interpretive at Flagstaff Hill.

DATES: The meeting will be from 8:00 a.m. to 10:00 a.m. January 20, 2000.

FOR FURTHER INFORMATION CONTACT: David B. Hunsaker, Bureau of Land Management, National Historic Oregon Trail, Interpretive Center, P.O. Box 987, Baker City, OR 97814, (Telephone 541-523-1845).

Richard T. Watts,
Vale ADM/Operations-Field Services.

[FR Doc. 00-1267 Filed 1-19-00; 8:45 am]

BILLING CODE 4310-33-M